POSTAL SERVICE

Board of Governors; Sunshine Act Meeting

Date and Time: Tuesday, December 7, 2010, at 9 a.m.

Place: Washington, DC, at U.S. Postal Service Headquarters, 475 L'Enfant Plaza, SW.

Status: Closed.

Matters To Be Considered: Tuesday, December 7, at 9 a.m. (Closed)

1. Financial Matters.

2. Pricing.

3. Strategic Issues.

4. Personnel Matters and Compensation Issues.

5. Governors' Executive Session—Discussion of prior agenda items and Board Governance.

Contact Person for More Information: Julie S. Moore, Secretary of the Board, U.S. Postal Service, 475 L'Enfant Plaza, SW., Washington, DC 20260-1000. Telephone (202) 268-4800.

Julie S. Moore,
Secretary.

[FR Doc. 2010-30667 Filed 12-2-10; 4:15 pm]

BILLING CODE 7710-12-P